DEPARTMENT OF AGRICULTURE

Forest Service

Addition of Lands to the Yonah Mountain Purchase Unit, White County, GA

AGENCY: Forest Service, USDA.

ACTION: Notice.

SUMMARY: On June 25, 2002, the Secretary of Agriculture added lands to the Yonah Mountain Purchase Unit. These additional lands comprise approximately 1,300 acres, more or less, within White County, Georgia. A copy of the addition document, which includes the legal descripton of the lands within the addition, appears at the end of this notice.

DATES: This land addition was effective June 25, 2002.

ADDRESSES: A copy of the map depicting the lands within the boundary extension is on file and available for public inspection in the Office of the Director, Lands Staff, 4th Floor—Sidney R. Yates Federal Building, Forest Service , USDA, 201 14th Street, SW, Washington, DC 20250, between the hours of 8:30 a.m. and 4:30 p.m. on business days. Those wishing to inspect the maps are encouraged to call ahead to (202) 205-1248 to facilitate entry into the building.

FOR FURTHER INFORMATION CONTACT: Jack Craven, Lands Staff, Forest Service, (202) 205-1248.

SUPPLEMENTARY INFORMATION: Pursuant to the Secretary of Agriculture's authority under section 17, Public Law 94-588 (90 Stat. 2949), approximately 1,300 acres were added to the Yonah Mountain Purchase Unit.

Dated: August 28, 2002.
Tom L. Thompson,
Acting Chief.

Addition to the Yonah Mountain Purchase Unit, White Mountain, Georgia

The following described lands lying adjacent to the Yonah Mountain Purchase Unit established in 1997 are determined to be suitable for the protection of watershed of navigable streams and for other purposes in accordance with Section 6 of the Weeks Act of 1911 (16 U.S.C. 515). Therefore, in furtherance of the authority of the Secretary of Agriculture pursuant to the Weeks Act of 1911, as amended, including Section 17 of the National Forest Management Act of 1976 (Pub. L. 94-588; 90 Stat. 2961), these lands are hereby added to the Yonah Mountain Purchase Unit:

All that certain tract of land lying on the west side of Yonah Mountain being approximately 1,300 acres more or less, of land in White County, lying and being all or a portion of Land Lots 122, 123, 134, 135, 153, 167, 186, and 187, District 3, White County, Georgia.

Beginning in White County at the intersection of Georgia Highway #75 and Yonah Mountain Road; thence, along Yonah Mountain Road in a general easterly direction to the National Forest boundary of Tract G-256.

thence, south along the boundary of the National Forest boundary for Tracts G-256 and C-224c,d, to the south east corner of the Forest Service tract;

thence, in a southwesterly direction for approximately 5,500 feet until the intersection of Old Blue Creek Road,

thence, in a general westerly direction along Old Blue Creek Road for an approximate distance of 1,000 feet;

thence, in a general northwest direction for approximately 5,000 feet until the intersection of Tom Bell road;

thence, in a northeasterly direction along Tom Bell road until the intersection of Chambers road;

thence, in a northerly direction along Chambers road until the intersection of Georgia Highway #75;

thence in a northerly direction along Georgia Highway #75 until the intersection of Yonah Mountain Road.

Containing 1,300 acres, more or less.

Executed in Washington, DC, this 25th day of June, 2002.
David P. Tenny,
Deputy Under Secretary, Natural Resources and Environment.

[FR Doc. 02-23433 Filed 9-13-02; 8:45 am]

BILLING CODE 3410-11-P